FEDERAL COMMUNICATIONS COMMISSION

47 CFR Part 1

[GEN Docket No. 86-285; FCC 11-98]

Amendment of the Schedule of Application Fees Set Forth In Sections 1.1102 Through 1.1109 of the Commission's Rules

AGENCY: Federal Communications Commission.

ACTION: Final rule.

SUMMARY: In this document, the Commission amends its rules to clarify that winning bidders in auctions of commercial broadcast spectrum are required to submit an application filing fee with their post-auction long-form applications. This clarification is intended to rectify a possible inconsistency throughout the Commission's rules, and in an earlier Commission Order.

DATES: Effective June 28, 2011.

ADDRESSES: Roland Helvajian, Federal Communications Commission, Office of the Managing Director, Revenue and Receivables Operations Group, 445 12th Street, SW., Washington, DC 20445.

FOR FURTHER INFORMATION CONTACT: Roland Helvajian, Office of the Managing Director, Revenue and Receivables Operations Group, (202) 418-0444 or Roland.Helvajian@fcc.gov.

SUPPLEMENTARY INFORMATION: This is a summary of the Commission's Second Order, FCC 11-98, adopted June 17, 2011, and released June 20, 2011.

Synopsis of Order

1. In the Notice of Proposed Rulemaking (NPRM) in this proceeding, the Commission proposed to clarify the rules on payment of post-auction long-form filing fees by winning bidders in auctions of construction permits in the broadcast services. It noted an inconsistency between Implementation of Section 309(j) of the Communications Act—Competitive Bidding for Commercial Broadcast and Instructional Television Fixed Service Licenses, First Report and Order (13 FCC Rcd 15920, 15984-85 para. 164 (1998)), in which the Commission required that winning broadcast auction bidders pay filing fees with their post-auction long-form applications, and 47 CFR 1.1104, the Schedule of Charges for Media Bureau Service filings, which requires payment of a fee when the long-form application is filed, on the one hand, and 47 CFR 1.2107(c), which suggests that a filing fee need not accompany a high bidder's long-form application, on the other. To rectify this inconsistency and conform the rules to the Commission's stated intent in the Broadcast Competitive Bidding First Report and Order, the Commission proposed in the NPRM to amend 47 CFR 1.2107(c) to read, “Except as otherwise provided in § 1.1104 of the rules, high bidders need not submit an additional application fee with their long-form applications.” By amending 47 CFR 1.2107(c), the Commission clarifies that high bidders filing long-form applications for media services must still pay any fees required by 47 CFR 1.1104 when filing their post-auction long-form application.

2. The Commission received no comments or reply comments regarding the proposed rule change. Therefore, the Commission adopts the change to 47 CFR 1.2107(c) as set forth herein.

Ordering Clauses

3. The rule adopted in this Second Order is a rule of agency procedure that does not substantially affect the rights or obligations of non-agency parties, and is exempt from the requirements of the Congressional Review Act pursuant to 5 U.S.C. 804(3)(C).

4. It is ordered that the Commission's rules are hereby amended as set forth herein.

5. It is further ordered that the rule change in this Second Order will become effective June 28, 2011.

List of Subjects in 47 CFR Part 1

Administrative practice and procedure.

Federal Communications Commission.
Marlene H. Dortch,
Secretary.

Rule Changes

For the reasons discussed in the preamble, the Federal Communications Commission amends 47 CFR part 1 to read as follows:

PART 1—PRACTICE AND PROCEDURE

1. The authority citation for part 1 continues to read as follows:

Authority: 15 U.S.C. 79 et seq; 47 U.S.C. 151, 154(i), 154(j), 155, 157, 225, 303(r), and 309.

2. Section 1.2107 is amended by revising paragraph (c) to read as follows:

§ 1.2107 Submission of down payment and filing of long-form applications.

* * * * *

(c) A high bidder that meets its down payment obligations in a timely manner must, within ten (10) business days after being notified that it is a high bidder, submit an additional application (the “long-form application”) pursuant to the rules governing the service in which the applicant is the high bidder. Except as otherwise provided in § 1.1104, high bidders need not submit an additional application filing fee with their long-form applications. Specific procedures for filing applications will be set out by Public Notice. Ownership disclosure requirements are set forth in § 1.2112. Beginning January 1, 1999, all long-form applications must be filed electronically. An applicant that fails to submit the required long-form application under this paragraph and fails to establish good cause for any late-filed submission, shall be deemed to have defaulted and will be subject to the payments set forth in § 1.2104.

* * * * *

[FR Doc. 2011-16152 Filed 6-27-11; 8:45 am]

BILLING CODE 6712-01-P